PENSION BENEFIT GUARANTY CORPORATION

Submission of Information Collection for OMB Review; Comment Request; Liability for Termination of Single-Employer Plans

AGENCY: Pension Benefit Guaranty Corporation.

ACTION: Correction.

SUMMARY: The Pension Benefit Guaranty Corporation (PBGC) published a notice document in the Federal Register on March 17, 2014 (at 79 FR 14756), informing the public of its request that the Office of Management and Budget (OMB) extend approval, under the Paperwork Reduction Act, of a collection of information contained in its regulation on Liability for Termination of Single-Employer Plans (OMB control number 1212-0017; expires March 31, 2014). This document corrects an inadvertent error in that notice.

FOR FURTHER INFORMATION CONTACT: Dan Liebman, Regulatory Affairs Group, Office of the General Counsel, Pension Benefit Guaranty Corporation, 1200 K Street NW., Washington, DC 20005-4026, liebman.daniel@pbgc.gov or 202-326-4400, ext. 6510. (For TTY and TDD, call 800-877-8339 and request connection to 202-326-4024).

SUPPLEMENTARY INFORMATION: The Pension Benefit Guaranty Corporation published a notice document in the Federal Register on March 17, 2014 (at 79 FR 14756), informing the public of its request that the Office of Management and Budget (OMB) extend approval, under the Paperwork Reduction Act, of a collection of information contained in its regulation on Liability for Termination of Single-Employer Plans (OMB control number 1212-0017; expires March 31, 2014). The notice contains an inadvertent error.

The last paragraph in the second column on page 14756 should have read as follows: PBGC estimates that an average of thirty contributing sponsors or controlled group members per year will respond to this collection of information. PBGC further estimates that the average annual burden of this collection of information will be six hours and $2,100 per respondent, with an average total annual burden of 180 hours and $63,000.

Issued in Washington, DC, on this 19th day of March 2014.
Catherine B. Klion,
Assistant General Counsel for Regulatory Affairs, Pension Benefit Guaranty Corporation.

[FR Doc. 2014-06511 Filed 3-24-14; 8:45 am]

BILLING CODE 7709-02-P